DEPARTMENT OF HOMELAND SECURITY

Coast Guard

33 CFR Parts 147 and 165

[USCG-2008-0181]

Quarterly Listings; Anchorages, Safety Zones, Security Zones, Special Local Regulations, Regulated Navigation Areas, and Drawbridge Operation Regulations; Correction

AGENCY: Coast Guard, DHS.

ACTION: Notice of expired temporary rules issued; correction.

SUMMARY: The Coast Guard published a document in the Federal Register of October 14, 2008, concerning expired temporary rules. The document contained an incorrect contact telephone number, an incorrect table entry, and an omission.

FOR FURTHER INFORMATION CONTACT: For questions on this notice contact Ms. Lesley Mose, Office of Regulations and Administrative Law, telephone (202) 372-3863. For questions on viewing, or on submitting material to the docket, contact Ms. Angie Ames, Program Manager, Docket Operations, telephone 202-366-5115.

Correction

In the Federal Register of October 14, 2008, in FR Doc. E8-23956, on page 60629, in the second column under FOR FURTHER INFORMATION CONTACT, correct the Office of Regulations and Administrative Law telephone number to read “202-372-3863”; on the same page, in the table, remove the entry for Docket No. USCG-2008-0102; and on page 60630, in the table insert the entry for Docket No. USCG-2008-0402 reading “Boca Grande, FL, Safety Zones (Parts 147 and 165), 6/7/2008” in numerical order.

Dated: December 9, 2008.
S.G. Venckus,
Chief, Office of Regulations and Administrative Law.

[FR Doc. E8-29736 Filed 12-18-08; 8:45 am]

BILLING CODE 4910-15-P